FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011383-046.

Title: Venezuelan Discussion Agreement.

Parties: Hamburg-Süd; King Ocean Services Limited, Inc.; Seaboard Marine Ltd.; and Seafreight Line.

Filing Party: Wayne R. Rohde, Esq.; Cozen O'Conner; 1627 I Street NW., Suite 1100; Washington, DC 20006-4007.

Synopsis: The amendment deletes MSC Mediterranean Shipping Company as a party to the Agreement.

Agreement No.: 011426-059.

Title: West Coast of South America Discussion Agreement.

Parties: CMA CGM S.A.; Hamburg-Süd; Hapag-Lloyd AG; King Ocean Services Limited, Inc.; MSC Mediterranean Shipping Company, SA; Seaboard Marine Ltd.; and Trinity Shipping Line.

Filing Party: Wayne R. Rohde, Esq.; Cozen O'Conner; 1627 I Street NW., Suite 1100; Washington, DC 20006-4007.

Synopsis: The amendment deletes Frontier Liner Services, Inc. as a party to the agreement.

By Order of the Federal Maritime Commission.
Dated: August 21, 2015.
Rachel E. Dickon,
Assistant Secretary.

[FR Doc. 2015-21134 Filed 8-25-15; 8:45 am]

BILLING CODE 6731-AA-P